DEPARTMENT OF EDUCATION

Notice of Proposed Information Collection Requests

AGENCY: Department of Education.

ACTION: Correction notice.

SUMMARY: On March 15, 2004, the Department of Education published a notice in the Federal Register (page 12135, column 1) for the information collection, “Title III Biennial Evaluation Report Required of State Education Agencies Regarding Activities Under the No Child Left Behind (NCLB) Act of 2001”. However, there was an error in the e-mail address for the public to submit comments. The corrected e-mail address is Sheila.Carey@ed.gov. The Department will still continue to accept public comments for another week. In addition, another notification, the 30-day comment period notice, will be published in the Federal Register shortly. This will provide the public the continued opportunity to comment to the Office of Management and Budget.

Dated: May 13, 2004.
Angela C. Arrington,
Regulatory Information Management Group, Office of the Chief Information Officer.

[FR Doc. 04-11273 Filed 5-18-04; 8:45 am]

BILLING CODE 4000-01-P